DEPARTMENT OF HEALTH AND HUMAN SERVICES

Centers for Disease Control and Prevention

[30DAY-32-01]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project: National Survey of STD Services Provided to U.S. College Students—New—The National Center for HIV, STD, and TB Prevention (NCHSTP), Centers for Disease Control and Prevention (CDC) plans to conduct a survey of a sample of U.S. colleges asking about health services available to students with focus on sexually transmitted disease (STD) testing and management. The sample shall include a broad range of colleges including 2 and 4 year, public and private, and rural and urban colleges to determine under what conditions, for which STDs, and how colleges educate about STDs, conduct testing and provide partner management.

STDs have a large economic and health impact throughout the United States. Most college students are within the age range with the highest rates for STDs (15-24 year olds). Chlamydia trachomatis is the most frequently reported infectious disease in the United States with prevalence rates of 4% to 18% in 16-24 year old women. Infections with Chlamydia trachomatis can result in pelvic inflammatory disease and infertility. Many STDs increase the risk of HIV transmission and acquisition. Genital infections with herpes simplex virus, human papillomavirus, and Trichomonas vaginalis have been reported at increasing rates over the last 10 years.

This national survey will provide data that will broaden the scientific knowledge related to STD services and management available to students at U.S. colleges. The survey is intended to (a) describe health insurance policies of colleges; (b) describe preventive services such as health education and condom availability at colleges; (c) identify characteristics of student health centers including staffing, type of care, and number of students seen; (d) identify possible obstacles to accessing STD services; (e) describe which STDs are being tested for and what testing criteria are applied; and (f) describe current partner services including partner notification practices and use of partner-delivered therapy. The total response burden is estimated at 455 hours.

Respondents | Number of respondents | Number of response per respondent (in hours) | Average burden per response (in hours)
Health Service Manager | 455 | 1 | 30/60
Chief Administrative Officer | 455 | 1 | 30/60

Dated: June 11, 2001.
Chuck Gollmar,
Acting Associate Direct for Policy, Planning, and Evaluation, Centers for Disease Control and Prevention.

[FR Doc. 01-15358 Filed 6-15-01; 8:45 am]

BILLING CODE 4163-18-P